DEPARTMENT OF THE INTERIOR

Bureau of Indian Affairs

DEPARTMENT OF HEALTH AND HUMAN SERVICES

Indian Health Service

Notice of Submission of Information Collection to the Office of Management and Budget

AGENCIES: Bureau of Indian Affairs, Interior and Indian Health Service, Health and Human Services.

SUMMARY: The Bureau of Indian Affairs and the Indian Health Service are submitting the information collection, titled “Indian Self-Determination and Education Assistance Act Contracts” to the Office of Management and Budget for renewal. The information collection, #1076-0136, is used to process contracts, grants or cooperative agreements for award by the Bureau of Indian Affairs and the Indian Health Service as authorized by the Indian Self-Determination and Education Assistance Act. The Act was amended and is set forth in 25 CFR part 900. This proposed information collection project was published in the Federal Register (68 FR 37016, June 20, 2003) and allowed 60 days for public comment. No public comment was received in response to the notice. The purpose of this notice is to allow 30 days for public comment to be submitted to OMB. The Department of the Interior and the Department of Health and Human Services invite you to submit comments to the OMB on the information collection described below.

DATES: Interested persons are invited to submit comments on or before February 19, 2004.

ADDRESSES: You may submit comments on the information collection to the Desk Officer for Department of the Interior, by facsimile at (202) 395-6566 or you may send an e-mail to: OIRA_DOCKET@omb.eop.gov.

Please send copy of comments to Lena Mills, Office of Tribal Services, Bureau of Indian Affairs, Department of the Interior, 1849 C Street, NW., MS 320 SIB, Washington, DC 20240. You may telefax comments on this information collection to (202) 208-5113. You may also hand-deliver written comments or view comments at the same address.

FOR FURTHER INFORMATION CONTACT: You may request further information or obtain copies of the information collection request submission from Lena Mills, Office of Tribal Services, Bureau of Indian Affairs, Department of the Interior, 1849 C Street, NW., MS 320 SIB, Washington, DC 20240, or (202) 513-7612.

SUPPLEMENTARY INFORMATION: Representatives of the Department of the Interior and the Department of Health and Human Services and Tribes developed a joint rule, 25 CFR part 900, to implement section 107 of the Indian Self-Determination and Education Assistance Act, as amended, Title I, Public Law 103-413, the Indian Self-Determination Contract Reform Act of 1994. Section 107(a)(2)(A)(ii) of the Indian Self-Determination Contract Reform Act requires the joint rule to permit contracts and grants be awarded to Indian Tribes without the unnecessary burden or confusion associated with two sets of rules and information collection requirements when legislation treats this as a single program covering two separate agencies. The Bureau of Indian Affairs and the Indian Health Service estimate that the base burden hours established for this Information Collection Request, OMB 1076-0136, will be reduced overall by approximately 20 percent. The reduction in the number of base burden hours established for information collection requirements of 25 CFR part 900 is a result of the three following factors:

(1) More Tribes are contracting under 25 CFR 900.8 which permits Tribes to contract several programs under a single contract;

(2) The number of self-governance Tribes has increased. Self-governance Tribes may combine all programs under a single self-governance compact;

(3) The majority of contracts awarded are for renewal, which take considerably less time to complete than new contracts and therefore substantially reduces the burden under subpart C.

The information requirements for this joint rule represent significant differences from other agencies in several respects. Both the Bureau of Indian Affairs and the Indian Health Service let contracts for multiple programs whereas other agencies usually award single grants to Tribes. Under the Indian Self-Determination and Education Assistance Act, as amended, and the Indian Self-Determination Contract Reform Act of 1994, Tribes are entitled to contract and may renew contracts annually where other agencies provide grants on a discretionary/competitive basis.

The proposal and other supporting documentation identified in this information collection is used by the Department of the Interior and the Department of Health and Human Services to determine applicant eligibility, evaluate applicant capabilities, protect the service population, safeguard Federal funds and other resources, and permit the Federal agencies to administer and evaluate contract programs. Tribal governments or Tribal organizations provide the information by submitting Public Law 93-638 contract or grant proposals to the appropriate Federal agency. No third-party notification or public disclosure burden is associated with this collection.

Request for Comments: The Bureau of Indian Affairs, DOI and Indian Health Service, DHHS requests you to send your comments on this collection to the locations listed in the ADDRESSES section.

Your comments should address: (a) The necessity of the information collection for the proper performance of the agencies, including whether the information will have practical utility; (b) the accuracy of the agencies' estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor nor request, and an individual need not respond to, a collection of information unless it has a valid OMB Control Number. It is our policy to make all comments available to the public for review at the location listed in the ADDRESSES section, room 320-South Interior Building, during the hours of 9 a.m. to 5 p.m., Eastern Standard Time, Monday through Friday, except for legal holidays. If you wish to have your name and/or address withheld, you must state this prominently at the beginning of your comments. We will honor your request according to the requirements of the law. All comments from organizations or representatives will be available for review. We may withhold comments from review for other reasons.

OMB Control Number: 1076-0136.

Title: Indian Self-Determination and Education Assistance Act Contracts.

Brief Description of Collection: A Tribe or Tribal organization may be required to respond from 1 to 12 times per year, depending upon the number of programs they contract from the Bureau of Indian Affairs and Indian Health Service. Each response may vary in its length. In addition, each Subpart concerns different parts of the contracting process. For example, Subpart C relates to the content provisions of the initial contract proposal. The burden associated with this would not be used when contracts are renewed. Subpart F describes minimum standards for the management systems used by Indian Tribes or Tribal organizations under these contracts. Subpart G addresses the negotiability of all reporting and data requirements in the contract.

Type of review: Renewal.

Respondents: 550.

Total annual burden to respondents: 191,174 hours.

Time per response: Varies from 10 hours to 50 hours.

Total number of responses: 5,507.

Dated: January 6, 2004.
Aurene M. Martin,
Principal Deputy Assistant Secretary—Indian Affairs, Department of the Interior.
Dated: November 20, 2003.
Robert G. McSwain,
Acting Director, Indian Health Service.

[FR Doc. 04-1111 Filed 1-16-04; 8:45 am]

BILLING CODE 4310-4J-P